NATIONAL ARCHIVES AND RECORDS ADMINISTRATION

Records Schedules; Availability and Request for Comments

AGENCY: National Archives and Records Administration, (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 13, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too, includes information about the records. Further information about the disposition process is available on request.

Schedules Pending

1. Department of Health and Human Services, National Institutes of Health (N1-443-00-2, 2 items, 2 temporary items). Background and general information relating to the Loan Repayment and Scholarship Program, including electronic copies of documents created using electronic mail and word processing. The records include routine program announcements, procedures, instructions to evaluators, lists of evaluators, and compilations of application ratings. This schedule reduces the retention period for recordkeeping copies of these files, which were previously approved for disposal.

2. Department of Labor, Office of Inspector General (N1-174-99-1, 8 items, 8 temporary items). Records relating to audits. Included are audit case files dealing with internal audits of agency programs, grantees, and contractors. Also included is the Audit Information Reporting System that is used to track cases and produce periodic reports as well as electronic copies of documents created using electronic mail and word processing.

3. Environmental Protection Agency, Office of Air and Radiation (N1-412-99-5, 3 items, 3 temporary items). Software programs, electronic data, and supporting documentation associated with the Ann Arbor In-Use Test Data System (IUTD). IUTD is an electronic information system that organizes and stores a variety of mobile source emission test and associated data, primarily on passenger cars and trucks. Input documents and outputs were previously scheduled.

4. Environmental Protection Agency, Office of Air and Radiation (N1-412-99-6, 3 items, 3 temporary items). Soft-ware programs, electronic data, and supporting documentation associated with the Trends Report System. This electronic system compiles data from the Aerometric Information Retrieval System (AIRS) to provide data for the annual National Air Quality and Trends Report. Input documents and outputs were previously scheduled. Electronic data from AIRS was previously approved for permanent retention.

5. Environmental Protection Agency, Agency-wide (N1-412-99-17, 2 items, 2 temporary items). Records relating to research and development programs involving multilateral organizations such as the United Nations Environmental Program and the World Health Organization. Files include correspondence, meeting minutes, conference documentation, and electronic copies of records created using electronic mail and word processing.

6. Environmental Protection Agency, Agency-wide (N1-412-99-18, 2 items, 2 temporary items). Records relating to reviews of contracts and grants and to audits. Records include correspondence, reports, and electronic copies of documents created using electronic mail and word processing.

7. Environmental Protection Agency, Agency-wide (N1-412-99-19, 2 items, 2 temporary items). Records relating to strategies and plans for announcing and disseminating agency issuances. The file for each issuance includes the communication/ distribution plan with comments, background documents, transmittal memoranda and letters, press releases, and Federal Register reprints. Also included are electronic copies of records created using electronic mail and word processing.

8. Environmental Protection Agency, Superfund Program (N1-412-99-23, 5 items, 2 temporary items). Paper copies of records relating to activities conducted at remedial sites that have been microfilmed. Also included are electronic copies of records created using electronic mail and word processing. Proposed for permanent retention are microfilm copies of records and paper copies of records that have not been microfilmed.

9. Environmental Protection Agency, Agency-wide (N1-412-99-24, 9 items, 9 temporary items). Criminal investigation case files and criminal enforcement counsel case files including electronic copies of documents created using electronic mail and word processing. Criminal investigation case files include search warrants, interview reports, lab analyses, indictments, plea agreements, and related records. Criminal enforcement counsel case files contain agency legal advice on specific environmental and related criminal cases managed by the agency or the Department of Justice as well as legal advice regarding the development and application of environmental criminal laws, regulations, and policies in general, including the management and functions of the agency's Office of Criminal Enforcement, Forensics, and Training.

10. United States Agency for International Development, Bureau for Administrative Services (N1-286-00-1, 4 items, 4 temporary items). System data, input documents, and documentation for an electronic system used to provide intranet access to agency notices for agency personnel. Also included are electronic copies of input documents created using electronic mail and word processing.

11. United States Agency for International Development, Bureau for Humanitarian Response (N1-286-00-2, 1 item, 1 temporary item). An electronic system used to provide intranet and internet access to current information on registered Private Voluntary Organizations eligible to compete for economic assistance administered by the agency.

12. National Aeronautics and Space Administration, Agency-wide (N1-255-00-1, 18 items, 13 temporary items). Real property records including construction files, work authorization packages, inventory reports, duplicate copies of installation master plans, and electronic copies of records created using electronic mail and word processing. Proposed for permanent retention are such records as construction files relating to unique facilities, maps and drawings, and installation master plans.

13. National Credit Union Administration, Office of the Inspector General (N1-413-00-1, 7 items, 5 temporary items). Investigations of fraud, abuse, and violations of laws or regulations, external and internal agency audits, and records relating to allegations and complaints. Also included are electronic copies of documents created using electronic mail and word processing. Recordkeeping copies of case files of significant value and final audit reports are proposed for permanent retention.

14. Federal Energy Regulatory Commission, Agency-wide (N1-138-00-1, 2 items, 2 temporary items). Electronic copies of documents created using electronic mail and word processing relating to formal investigations into violations of the Natural Gas Act. Included are electronic copies of such records as orders instituting investigations, responses to orders, motions to dismiss or terminate investigations, applications for rehearing, and petitions to quash subpoenas. Paper copies of these documents were previously approved for disposal.

15. Federal Energy Regulatory Commission, Agency-wide (N1-138-00-2, 2 items, 2 temporary items). Electronic copies of documents created using electronic mail and word processing relating to formal investigations. Included are electronic copies of such records as orders instituting investigations, responses to orders, motions to dismiss or terminate investigations, applications for rehearing, petitions to quash subpoenas, and reports on fuel and energy purchase practices. Paper copies of these documents were previously approved for disposal.

16. Federal Energy Regulatory Commission, Office of Electric Power Regulation (N1-138-00-3, 3 items, 3 temporary items). Electronically filed copies of monthly reports submitted by electric utilities containing information on origin, cost, and quality of fuel received at generating plants. Paper copies of these documents were previously approved for disposal. Also included are electronic copies of documents created using electronic mail and word processing.

17. Federal Energy Regulatory Commission, Office of Electric Power Regulation (N1-138-00-4, 3 items, 3 temporary items). Electronically filed copies of annual power system reports submitted by electric utilities containing information on generating capacity, transmission facilities, loads, and related information. Paper copies of these documents were previously approved for disposal. Also included are electronic copies of documents created using electronic mail and word processing.

18. Federal Energy Regulatory Commission, Office of the Secretary (N1-138-99-8, 5 items, 5 temporary items). Records containing names of participants to Commission proceedings who must be provided with copies of documents filed in dockets. Included are an electronic database, outputs, systems documentation, and electronic copies of documents created using electronic mail and word processing.

19. Nuclear Regulatory Commission, Office of Nuclear Material Safety and Safeguards (N1-431-00-13, 114 items, 80 temporary items). Electronic records in the Commission's Agency-wide Document Access and Management System (ADAMS) accumulated by the Office of Nuclear Material Safety and Safeguards, including electronic copies of records created using office automation tools and records that are used to create ADAMS portable document format files. The electronic recordkeeping copies of documents related to funding methods for financial assurance for decommissioning and files documenting the management and implementation of NRC's internal radiation protection program are proposed for disposal as are paper copies of these records that pre-date ADAMS. Also proposed for disposal are electronic record-keeping copies of case files (excluding decommissioning) and independent spent fuel storage installation docket files that are not selected for permanent retention, program correspondence accumulated below the Office director level, routine program correspondence files accumulated at all organizational levels, licensee mismanagement files, personnel exposure files, process operator license files, and case files covering licensees where licensing jurisdiction is transferred to a State. Paper copies of these records were previously approved for disposal. Records proposed for permanent retention include recordkeeping copies of such files as docket files for the disposal of high-level radioactive wastes in geologic repositories, docket files for the land disposal of radioactive wastes, uranium recovery docket files, and selected independent spent fuel storage installation docket files. This schedule also proposes minor changes in the disposition instructions for paper copies of such files as allegation case files, committee and conference records, special nuclear material docket files, international safeguards program office files, Part 71 safety evaluation reports and quality assurance files, personal dosimetry processing reports, regulatory history files for proposed and final rulemaking, and sealed source and device review files. These records were previously scheduled.

20. Nuclear Regulatory Commission, Office of Congressional Affairs and International Programs (N1-431-00-14, 8 items, 8 temporary items). Electronic records in the Commission's Agency-wide Document Access and Management System (ADAMS) accumulated by the Office of Congressional Affairs and International Programs, including electronic copies of records created using office automation tools and records that are used to create ADAMS portable document format files. The electronic recordkeeping copies of congressional hearing testimony and transcript files and representation fund files are proposed for disposal as are paper files that pre-date ADAMS.

Dated: January 14, 2000.
Michael J. Kurtz,
Assistant Archivist for Record Services—Washington, DC.

[FR Doc. 00-1886 Filed 1-26-00; 8:45 am]

BILLING CODE 7515-01-P